DEPARTMENT OF HOMELAND SECURITY

Coast Guard

33 CFR Part 117

[Docket No. USCG-2017-0781]

Drawbridge Operation Regulation; Atlantic Intracoastal Waterway, Matanzas River, St. Augustine, FL

AGENCY: Coast Guard, DHS.

ACTION: Notice of deviation from drawbridge regulation.

SUMMARY: The Coast Guard has issued a temporary deviation from the operating schedule and vertical clearance that governs the Crescent Beach Bridge (SR 206) across the Atlantic Intracoastal Waterway (Matanzas River), mile 788.6, at St. Augustine, Florida. The temporary deviation is necessary to complete rehabilitation work on the bridge. This temporary deviation allows the bridge single-leaf operations on a schedule with an advanced notice for a double-leaf opening and a two foot reduction in the vertical clearance of the bridge. This action is intended to allow for the contractor to conduct necessary rehabilitation work on the bascule spans with little to no effect on navigation.

DATES: This deviation is effective without actual notice from August 23, 2017 through 4 p.m. on November 30, 2017. For the purposes of enforcement, actual notice will be used from August 17, 2017 at 7 a.m. until August 23, 2017.

ADDRESSES: The docket for this deviation, USCG-2017-0781 is available at http://www.regulations.gov. Type the docket number in the “SEARCH” box and click “SEARCH”. Click on Open Docket Folder on the line associated with this deviation.

FOR FURTHER INFORMATION CONTACT: If you have questions on this temporary deviation, call or email LT Allan Storm, U.S. Coast Guard Sector Jacksonville, Waterways Management Division; telephone 904-714-7616, email Allan.H.Storm@uscg.mil.

SUPPLEMENTARY INFORMATION: The Florida Department of Transportation (FDOT) requested a temporary deviation from the operating schedule and a vertical clearance reduction that governs the Crescent Beach Bridge (SR 206), Atlantic Intracoastal Waterway (Matanzas River), mile 788.6, St. Augustine, Florida. The bridge is a double leaf bascule bridge with a 20 foot vertical clearance in the closed position.

The deviation period is from 7 a.m. on August 17, 2017 to 4 p.m. on November 30, 2017. During this period, the bridge is allowed single leaf operations on a twice an hour schedule and with a two hour notice for a double leaf opening with a two foot reduction in the vertical clearance on the closed position. From 7 a.m. to 4 p.m., Monday through Friday and 7 a.m. to 7 p.m., Saturday and Sunday, the bridge will open on the hour and half hour. The vertical clearance will be reduced to 18 feet for the duration of the deviation period.

Vessels able to pass through the bridge in the closed position may do so at anytime. The bridge will be able to open for emergencies and there is no immediate alternate route for vessels to pass. The Coast Guard will also inform the users of the waterways through our Local and Broadcast Notices to Mariners of the change in operating schedule and vertical clearance for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: August 17, 2017.
Barry L. Dragon,
Director, Bridge Branch, Seventh Coast Guard District.

[FR Doc. 2017-17819 Filed 8-22-17; 8:45 am]

BILLING CODE 9110-04-P